DEPARTMENT OF THE INTERIOR
Bureau of Land Management
[OR-115-5900-JE-MQ99; HAG 04-0043]
Notice of Availability of the Timbered Rock Fire Salvage and Elk Creek Watershed Restoration Final Environmental Impact Statement; Medford District, Oregon

AGENCY:
Bureau of Land Management.

ACTION:
Notice of availability.

SUMMARY:
In accordance with Section 202 of the National Environmental Policy Act of 1970 (NEPA), a FEIS has been prepared by the Bureau of Land Management (BLM), Medford District, to analyze possible salvage opportunities resulting from the Timbered Rock Fire and proposed restoration projects designed to move resource conditions closer to the desired future conditions identified in the Medford District Resource Management Plan, Northwest Forest Plan, Elk Creek Watershed Analysis, and the South Cascades Late-Successional Reserve Assessment. The subject lands were designated Late-Successional Reserve in the Northwest Forest Plan. Restoration projects are designed to accelerate establishment or protection of late-successional forest conditions. Scientific debate surrounds the fire salvage issue and related NEPA documentation is continually challenged. In response to these disputes, an alternative was developed including scientific investigations that could be implemented within the Late-Successional Reserve to respond to these controversial issues related to salvage of fire-killed trees or fire effects on critical resources. The FEIS addresses whether to pursue salvage, levels of snags and coarse wood debris to be retained, and restoration projects on BLM-administered lands within and adjacent to the Late-Successional Reserve and Elk Creek Watershed.

DATES:

The period of availability for public review of the FEIS ends 30 days after publication of the Environmental Protection Agency (EPA) Notice of Availability (NOA) in the Federal Register. At that time public comments will be reviewed and considered in the decision making process.

ADDRESSES:

Written comments on the document should be addressed to Timbered Rock EIS, 3040 Biddle Road, Medford, Oregon, 97504; or e-mail or110treis@or.blm.gov. Copies will be available at the Jackson and Josephine County libraries, and on the Timbered Rock Fire Salvage and Elk Creek Watershed Restoration Web site at http://www.or.blm.gov/Medford/TimbrockEIS/index.htm. Copies of the FEIS will be mailed to individuals, agencies, or companies who previously requested copies. A limited number of copies of the document will be available at the Medford District Office, 3040 Biddle Road, Medford, Oregon, 97504. Pursuant to 7 CFR Part 1, Subpart B, Section 1.27, all written and electronic submissions in response to this notice, public scoping letters, and draft and final Environmental Impact Statements will be made available for public review at the Medford District Office during regular hours (7:45 a.m. to 4:30 p.m., Monday through Friday, except holidays) including the submitter's name and address.
Individuals may request confidentiality with respect to their name, address, and phone number. If you wish to have your name or street address withheld form public review, or from disclosure under the Freedom of Information Act, the first line of the comment should start with the words “CONFIDENTIALITY REQUESTED” in uppercase letters in order for the BLM to comply with your request. Such request will be honored to the extent allowed by law. Comments content will not be kept confidential. All submissions from organizations or businesses, and from individuals identifying themselves as representatives or officials of organizations or businesses will be available for public inspection in their entirety.

FOR FURTHER INFORMATION CONTACT:
Jean Williams at (541) 944-6620 or John Bergin at (541) 840-9989.

SUPPLEMENTARY INFORMATION:
The FEIS addresses seven alternatives for possible salvage opportunities and proposed restoration projects designed to move resource conditions closer to the desired future conditions identified in the Northwest Forest Plan, Elk Creek Watershed Analysis, and the South Cascades Late-Successional Reserve Assessment. Two types of salvage, area and roadside are discussed in Alternatives C through G. Alternatives A and B proposes no salvage. Alternatives C, D and G were designed using specific guidance relating to post-fire salvage and/or Late-Successional Reserve guidelines. Roadside salvage is designed to reduce existing or potential public safety concerns while recovering economic value. Included in the design of Alternative G, the Preferred Alternative, is research to evaluate mixed-species reforestation plantings to identify and characterize temporal patterns of vegetation structural development and species diversity; to assess temporal dynamics of fuels loading and fire risk; and to determine impacts of snag retention on survival and growth of planted and naturally regenerated trees. Also included in Alternative G is research designed to evaluate various snag retention levels on wildlife species (birds and small mammals).
Four levels of restoration projects are proposed in the six action alternatives: focused, moderate, extensive and focused within the fire perimeter only. The restoration varies by the scope of the projects (acres, miles of roads, etc.), intensity of the treatments, and location of the treatments. Restoration projects are located both within the Timbered Rock Fire perimeter and outside the fire area. Most projects are located within the Elk Creek Watershed; however, a proposed eagle nest project and some fuel management zone projects are located on ridge tops within adjacent watersheds. Projects are based on recommendations presented in the Late-Successional Reserve Assessment and/or Elk Creek Watershed Analysis, or were developed to address specific issues.

Projects proposed within the fire area focus on road projects to reduce existing and potential sedimentation from the road network, fish improvement projects, development of Fuel Management Zones, and reducing future hazardous fuel conditions within existing Northern Spotted Owl activity centers. Reforestation of the burned area was assessed in the Emergency Stabilization/Rehabilitation Plan Environmental Assessment. Alternatives A and E follow these recommendations. Other approaches to reforestation are presented in Alternatives B, C, D, F, and G. A reforestation study is included which would evaluate a variety of planting densities, species, and follow-up treatments in both salvage and unsalvaged areas in alternative G. This reforestation research could be incorporated into any alternative. The FEIS analyzes in detail the following seven alternatives:

Alternative A—No Action—Continuation of current management, follow the Emergency Stabilization and Rehabilitation Plan as planned for the Timbered Rock Fire

No restoration projects are proposed, but rehabilitation and stabilization projects proposed in the Timbered Rock Fire Emergency Stabilization and Rehabilitation Project Environmental Assessment would be implemented.

Alternative B—No Salvage and Focused Restoration Emphasis

Emphasis is placed on reducing vegetative competition in over-stocked stands with density management treatments, fuels reduction treatments, and pine habitat restoration. Areas proposed for treatment are generally those in most need of reducing competing vegetation. Within the fire perimeter, restoration would focus on high priority road work. Restoration actions would focus on non-commercial projects, designed to accelerate the growth of trees in stands to promote late-successional conditions with a variety of size classes. Species diversity would be maintained to promote connectivity between owl activity sites and develop late-successional forest characteristics.

Alternative C—Salvage Following South Cascade Late-Successional Reserve Assessment Guidelines and Moderate Restoration Emphasis Area salvage emphasis is proposed in high and moderate burn severity areas greater than 10 acres where the fire resulted in a stand-replacement event. Alternative C salvage is based on guidelines from the Late-Successional Reserve Assessment for snag and coarse woody debris retention. Area salvage on 247 acres and roadside hazard tree removal on 1,078 acres would harvest an estimated 8.6 million board feet (MMBF). Restoration projects include fish habitat improvement, Late-Successional Reserve thinning, pine and oak woodlands restoration, reforestation of stand-replacement areas greater than 5 acres, fuels reduction along ridgelines, wildlife habitat enhancement projects, and road improvement projects.

Alternative D—Late-Successional Reserve Guidelines for Salvage Using DecAID Wood Advisor Tool for Snags and Course Woody Debris (CWD) and Moderate Restoration Emphasis

Area salvage emphasis is proposed in high and moderate burn severity areas greater than 10 acres where the fire resulted in a stand-replacement event. Instead of following LSRA salvage guidelines, snag and coarse woody debris retention levels in this alternative are based on the DecAID Wood Advisor tool. Area salvage on 820 acres and roadside hazard tree removal on 1,064 acres would harvest an estimated 21.0 MMBF. Restoration projects would be the same as Alternative C.

Alternative E—High Level of Salvage and Extensive Restoration Emphasis

Area salvage emphasis is proposed in high, moderate, low and very low burned severity areas. Area salvage on 3,269 acres and roadside hazard tree removal on 536 acres would harvest an estimated 29.4 MMBF. Snag retention levels within the high and moderate burn severity areas would be 6-14 snags/acre. This is based on study by Haggard and Gaines (2001) which found the highest diversity in cavity nesting species and the highest number of nests where snag densities ranged from 6-14 snags/acre. Snag retention within the low and very low burn severity areas with canopy cover greater than 40 percent would be 4 snags/acre. The course woody debris level in this alternative would be a minimum of 120 linear feet/acre. Extensive restoration would increase the scope of the projects (acres, miles of roads, etc.), intensity of the treatments, and location of the treatments identified in Alternative C and D. Alternative E also proposes seasonal closure of some roads.

Alternative F—Salvage Logging and Post-fire rehabilitation actions consistent with report on Recommendations for Ecologically Sound Post-Fire Salvage Management and Other Post-Fire Treatments on Federal Lands in the West (Beschta, et al. 1995)

Area salvage emphasis is based on recommendations to avoid severely burned areas, erosive sites, fragile soils, riparian areas, steep slopes, or sites where accelerated erosion is possible. Existing snags and course woody debris levels would be retained on all these areas. Salvage would occur in 3-10 acre patches of fire-killed trees. Within each of these patches, a minimum of 2 acres would be reserved from salvage, retaining all snags and course woody debris. Area salvage on 213 acres and roadside hazard tree removal on 1,182 acres would harvest an estimated 8.0 MMBF. The Beschta, et al. report does not address actions outside of a burned area. As a result, no Late-Successional Reserve restoration actions are proposed. However, restoration projects within the fire perimeter, consistent with Beschta, et al. report are proposed.

Alternative G—Preferred Alternative—Salvage Including Research and Moderate Restoration Emphasis

Alternative G includes two approaches to area salvage; research based and salvage of those areas remaining. Research area salvage emphasis is designed to study the effects of various snag levels on selected wildlife species (birds and small mammals). Twelve units were selected to be included in this study. These units are generally 30 acres or greater. Four units would be salvaged leaving six snags per acre greater than 20″ diameter at breast height (DBH). Another four units would salvage 70 percent of the unit leaving six snags per acre greater than 20 DBH, with the remaining 30 percent being unsalvaged. In addition, four control units would not be salvaged. Salvage would be on 282 acres for an estimated 7.4 MMBF. A reforestation study is also included, which would evaluate a variety of planting densities, species, and follow-up treatments in both salvaged and unsalvaged areas. The remaining area salvage would focus on stand replacement areas (high and moderate burn severity) greater than 10 acres. Salvage would be on 679 acres and roadside hazard tree removal on 1,188 acres would harvest an estimated 16.0 MMBF.
Snag and course woody debris levels would meet DecAid Wood Advisor recommendations. Retained snags would be clumped together, instead of scattered throughout the unit. Restoration projects would be the same as Alternatives C and D. Alternative G also proposes seasonal closure of some roads.
The information contained in the Final EIS has been updated based upon new information collected since publication of the DEIS and to add clarity based upon public comments or internal review. In addition, letters received during the public comment period and our responses to substantive comments have been incorporated into the Final EIS as Chapter 5.

It is not the intent of this project to change land use allocations, nor Standard and Guidelines made through the Northwest Forest Plan and later adopted through the Medford District Resource Management Plan. Alternative G, the Preferred Alternative, has been determined to be consistent with the Northwest Forest Plan and Medford District Resource Management Plan.

Timothy B. Reuwsaat,
Medford District Manager.

[FR Doc. 04-2049 Filed 1-29-04; 8:45 am]
BILLING CODE 4310-33-P